DEPARTMENT OF TRANSPORTATION

Federal Aviation Administration

14 CFR Part 39

[Docket No. FAA-2016-9568; Directorate Identifier 2016-NM-150-AD]

RIN 2120-AA64

Airworthiness Directives; 328 Support Services GmbH (Type Certificate Previously Held by AvCraft Aerospace GmbH; Fairchild Dornier GmbH; Dornier Luftfahrt GmbH) Airplanes

AGENCY: Federal Aviation Administration (FAA), DOT.

ACTION: Supplemental notice of proposed rulemaking (SNPRM); reopening of comment period.

SUMMARY: We are revising an earlier proposal for an airworthiness directive (AD) for certain 328 Support Services GmbH Model 328-100 and Model 328-300 airplanes. This action revises the notice of proposed rulemaking (NPRM) by expanding the applicability and making certain inspections repetitive. We are proposing this AD to address the unsafe condition on these products. Since these actions impose an additional burden over those proposed in the NPRM, we are reopening the comment period to allow the public the chance to comment on these proposed changes.

DATES: The comment period for the NPRM published in the Federal Register on January 11, 2017 (82 FR 3217), is reopened.

We must receive comments on this SNPRM by August 14, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC between 9 a.m. and 5 p.m., Monday through Friday, except Federal holidays.

For service information identified in this SNPRM, contact 328 Support Services GmbH, Global Support Center, P.O. Box 1252, D-82231 Wessling, Federal Republic of Germany; telephone +49 8153 88111 6666; fax +49 8153 88111 6565; email gsc.op@328support.de; Internet http://www.328support.de. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2016-9568; or in person at the Docket Management Facility between 9 a.m. and 5 p.m., Monday through Friday, except Federal holidays. The AD docket contains this proposed AD, the regulatory evaluation, any comments received, and other information. The street address for the Docket Office (telephone: 800-647-5527) is in the ADDRESSES section. Comments will be available in the AD docket shortly after receipt.

FOR FURTHER INFORMATION CONTACT: Todd Thompson, Aerospace Engineer, International Branch, ANM-116, Transport Airplane Directorate, FAA, 1601 Lind Avenue SW., Renton, WA 98057-3356; telephone 425-227-1175; fax 425-227-1149.

SUPPLEMENTARY INFORMATION:

Comments Invited

We invite you to send any written relevant data, views, or arguments about this proposed AD. Send your comments to an address listed under the ADDRESSES section. Include “Docket No. FAA-2016-9568; Directorate Identifier 2016-NM-150-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

We issued an NPRM to amend 14 CFR part 39 by adding an AD that would apply to certain 328 Support Services GmbH Model 328-100 and Model 328-300 airplanes. The NPRM published in the Federal Register on January 11, 2017 (82 FR 3217). The NPRM was prompted by reports of broken bonding wires of certain fuel line clamps. The NPRM proposed to require a one-time inspection of certain fuel line clamps for discrepancies, and replacement of any discrepant clamps.

Actions Since the NPRM Was Issued

Since we issued the NPRM, we have determined that repetitive inspections are necessary to address the unsafe condition and that additional airplanes are affected by the unsafe condition and must be added to the applicability.

The European Aviation Safety Agency (EASA), which is the Technical Agent for the Member States of the European Union, has issued EASA Airworthiness Directive 2017-0016, dated January 31, 2017 (referred to after this as the Mandatory Continuing Airworthiness Information, or “the MCAI”), to correct an unsafe condition on all 328 Support Services GmbH Model 328-100 and Model 328-300 airplanes. The MCAI states:

Occurrences of broken bonding wires of the fuel line clamps have been reported on Dornier 328-100 and Dornier 328-300 aeroplanes equipped with fuel line clamps Part Number (P/N) 14C02-10A, or P/N 14C02-12A, or P/N 14C02-16A. The affected fuel line clamps have been installed in accordance with the instructions of Dornier 328 Service Bulletin (SB) SB-328-28-490 or SB-328J-28-241, as applicable, to reduce occurrences of fuel line chafing.

The results of the investigation did not identify design deficiency or production failure of the fuel line clamps. It is assumed that the chafing and breaking of the bonding wires are caused either by excessive vibration, misalignment, excessive installation tolerances or mistakes on installation or a combination thereof.

This condition, if not detected and corrected, could lead to the loss of bonding function and, in combination with a lightning strike, create a source of ignition in a fuel tank, possibly resulting in a fire or explosion and consequent loss of the aeroplane.

To address the unsafe condition, 328 Support Services issued Alert SB (ASB) ASB-328-28-041 (for Dornier 328-100) and ASB-328J-28-018 (for Dornier 328-300), providing inspection instructions.

Consequently, EASA issued AD 2016-0169 [which corresponds to the NPRM] to require a one-time inspection of the fuel line clamps and, depending on findings, replacement. That [EASA] AD also required the reporting off all inspection results to the design approval holder.

Since that [EASA] AD was issued, it was determined that repetitive inspections are necessary and 328 Support Services revised the applicable ASBs accordingly.

For the reason described above, this [EASA] AD retains the requirements of EASA AD 2016-0169, which is superseded, and requires repetitive inspections of all Hydraflow fuel line clamps [i.e., a general visual inspection of all Hydraflow fuel line clamps for worn and missing bonding wires; a general visual inspection of the jet pump outlet, connection part, and fuel lines for chafing marks; and a measurement of the depth of the chafing marks on affected parts] and continued reporting to the TC Holder.

You may examine the MCAI in the AD docket on the Internet at http://www.regulations.gov by searching for and locating Docket No. FAA-2016-9568.

Related Service Information Under 1 CFR Part 51

328 Support Services has issued Alert Service Bulletin ASB-328J-28-018, Revision 2, dated December 12, 2016; and Alert Service Bulletin ASB-328-28-041, Revision 2, dated December 12, 2016. The service information describes procedures for a general visual inspection of all Hydraflow fuel line clamps for worn and missing bonding wires; a general visual inspection of the jet pump outlet, connection part, and fuel lines for chafing marks; a measurement of the depth of the chafing marks, and replacement of affected parts. These documents are distinct since they apply to different airplane models. This service information is reasonably available because the interested parties have access to it through their normal course of business or by the means identified in the ADDRESSES section.

Comments

We gave the public the opportunity to participate in developing this proposed AD. We considered the comments received.

Request To Refer to Updated Service Information

Two commenters, Patrick Brady and Christoph Thallmayr, requested that we revise the proposed AD to refer to the latest 328 Support Services Service Bulletins. The commenters stated that updated versions of the service information specify repetitive inspections at intervals of 2,500 flight hours. The commenters further noted that EASA issued an updated AD, which references the latest service information. Patrick Brady noted that the repetitive inspections could be scheduled with recurring “5A” inspections to ensure no additional downtime is needed.

We agree with the request. We have revised this AD to refer to the updated service information and MCAI.

FAA's Determination and Requirements of This SNPRM

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Certain changes described above expand the scope of the NPRM. As a result, we have determined that it is necessary to reopen the comment period to provide additional opportunity for the public to comment on this SNPRM.

Costs of Compliance

We estimate that this SNPRM affects 25 airplanes of U.S. registry

We estimate the following costs to comply with this proposed AD:

Estimated Costs
Action | Labor cost | Parts cost | Cost per product | Cost on U.S. operators
Inspections | 8 work-hours × $85 per hour = $680 per inspection cycle. | $0 | $680 per inspection cycle | $17,000 per inspection cycle
Reporting | 1 work-hour × $85 per hour = $85 per inspection cycle | 0 | $85 per inspection cycle | $2,125 per inspection cycle

We estimate the following costs to do any necessary replacements that would be required based on the results of the proposed inspection. We have no way of determining the number of aircraft that might need these replacements.

On-Condition Costs
Action | Labor cost | Parts cost | Cost per product
Replacement | Up to 1 work-hour × $85 per hour = $85 | Up to $588 | Up to $673.

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave SW., Washington, DC 20591, ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

328 Support Services GmbH (Type Certificate Previously Held by AvCraft Aerospace GmbH; Fairchild Dornier GmbH; Dornier Luftfahrt GmbH): Docket No. FAA-2016-9568; Directorate Identifier 2016-NM-150-AD.

(a) Comments Due Date

We must receive comments by August 14, 2017.

(b) Affected ADs

None.

(c) Applicability

This AD applies to 328 Support Services GmbH (Type Certificate Previously Held by AvCraft Aerospace GmbH; Fairchild Dornier GmbH; Dornier Luftfahrt GmbH) airplanes, certificated in any category, as identified in paragraphs (c)(1) and (c)(2) of this AD.

(1) Model 328-100 airplanes, all serial numbers.

(2) Model 328-300 airplanes, all serial numbers.

(d) Subject

Air Transport Association (ATA) of America Code 28, Fuel.

(e) Reason

This AD was prompted by reports of broken bonding wires of certain fuel line clamps. We are issuing this AD to prevent the loss of bonding function, which, in combination with a lightning strike, could create a source of ignition in a fuel tank, possibly resulting in a fire or explosion and consequent loss of the airplane.

(f) Compliance

Comply with this AD within the compliance times specified, unless already done.

(g) Repetitive Inspections

Within 6 months after the effective date of this AD, do a general visual inspection of all Hydraflow fuel line clamps for worn and missing bonding wires; do a general visual inspection of the jet pump outlet, connection part, and fuel lines for chafing marks; and for parts with chafing marks, before further flight, measure the depth of the chafing marks; in accordance with the Accomplishment Instructions of the service information specified in paragraph (g)(1) or (g)(2) of this AD, as applicable. Repeat the inspections thereafter at intervals not to exceed 2,500 flight hours.

(1) 328 Support Services GmbH Alert Service Bulletin ASB-328-28-041, Revision 2, dated December 12, 2016 (for Model 328-100 airplanes).

(2) 328 Support Services GmbH Alert Service Bulletin ASB-328J-28-018, Revision 2, dated December 12, 2016 (for Model 328-300 airplanes).

(h) Replacement of Parts

(1) If any worn or missing bonding wires are found during any inspection required by paragraph (g) of this AD, before further flight, replace all affected clamps, in accordance with the Accomplishment Instructions of the service information specified in paragraph (g)(1) or (g)(2) of this AD, as applicable.

(2) If, during any inspection required by paragraph (g) of this AD, any chafing depth is found that is more than the replacement limits specified in the Accomplishment Instructions of the service information specified in paragraph (g)(1) or (g)(2) of this AD, as applicable, before further flight, replace all affected parts, in accordance with the Accomplishment Instructions of the service information specified in paragraph (g)(1) or (g)(2) of this AD, as applicable.

(i) Reporting

At the applicable time specified in paragraph (i)(1) or (i)(2) of this AD, report the inspection results, positive or negative, to 328 Support Services, GmbH, Global Support Center, P.O. Box 1252, D-82231 Wessling, Federal Republic of Germany; fax +49 8153 88111 6565; email gsc.op@328support.de. The report must include findings on fuel line clamps, aircraft serial number, total flight hours, and total landings.

(1) If the inspection was done on or after the effective date of this AD: Submit the report within 30 days after the inspection.

(2) If the inspection was done before the effective date of this AD: Submit the report within 30 days after the effective date of this AD.

(j) Credit for Previous Actions

This paragraph provides credit for the initial inspection, parts replacement, and initial report required by paragraphs (g), (h), and (i) of this AD, if those actions were performed before the effective date of this AD using the service information specified in paragraphs (j)(1) through (j)(4) of this AD.

(1) 328 Support Services GmbH Alert Service Bulletin ASB-328-28-041, dated June 14, 2016.

(2) 328 Support Services GmbH Alert Service Bulletin ASB-328-041, Revision 1, dated October 13, 2016.

(3) 328 Support Services GmbH Alert Service Bulletin ASB-328J-28-018, dated June 3, 2016.

(4) 328 Support Services GmbH Alert Service Bulletin ASB-328J-28-018, Revision 1, dated October 13, 2016.

(k) No Terminating Action

Replacement of clamps as required by paragraph (h) of this AD does not constitute terminating action for the repetitive inspections required by paragraph (g) of this AD for that airplane.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the manager of the International Branch, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or 328 Support Services GmbH's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(m) Related Information

(1) Refer to Mandatory Continuing Airworthiness Information (MCAI) EASA Airworthiness Directive 2017-0016, dated January 31, 2017, for related information. This MCAI may be found in the AD docket on the Internet at http://www.regulations.gov by searching for and locating Docket No. FAA-2016-9568.

(2) For more information about this AD, contact Todd Thompson, Aerospace Engineer, International Branch, ANM-116, Transport Airplane Directorate, FAA, 1601 Lind Avenue SW., Renton, WA 98057-3356; telephone 425-227-1175; fax 425-227-1149.

(3) For service information identified in this AD, contact 328 Support Services GmbH, Global Support Center, P.O. Box 1252, D-82231 Wessling, Federal Republic of Germany; telephone +49 8153 88111 6666; fax +49 8153 88111 6565; email gsc.op@328support.de; Internet http://www.328support.de. You may view this service information at the FAA, Transport Airplane Directorate, 1601 Lind Avenue SW., Renton, WA. For information on the availability of this material at the FAA, call 425-227-1221.

Issued in Renton, Washington, on June 22, 2017.
John P. Piccola, Jr.,
Acting Manager, Transport Airplane Directorate, Aircraft Certification Service.

[FR Doc. 2017-13756 Filed 6-29-17; 8:45 am]

BILLING CODE 4910-13-P